DEPARTMENT OF TRANSPORTATION

Federal Railroad Administration

[Docket Number FRA-2025-0035]

Notice of Petition for Waiver of Compliance

AGENCY: Federal Railroad Administration (FRA), Department of Transportation (DOT).

ACTION: Notice.

SUMMARY: This document provides the public notice that New Hope and Ivyland Railroad (NHRR) petitioned FRA for relief from certain regulations concerning steam locomotive inspections.

DATES: FRA must receive comments on the petition by June 12, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Michael Barron, Railroad Safety Specialist, FRA Motive Power & Equipment Division, telephone: 202-366-7117, email: michael.barron@dot.gov.

SUPPLEMENTARY INFORMATION: Under part 211 of title 49 Code of Federal Regulations (CFR), this document provides the public notice that by letter received March 3, 2025, NHRR petitioned FRA for a waiver of compliance from certain provisions of the Federal railroad safety regulations contained at 49 CFR part 230 (Steam Locomotive Inspection and Maintenance Standards). FRA assigned the petition Docket Number FRA-2025-0035.

Specifically, NHRR seeks relief from § 230.17(a), One thousand four hundred seventy-two (1,472) service day inspection, which requires a steam locomotive's “entire boiler” to be inspected after 1,472 service days or 15 years, whichever is earlier. NHRR, a tourist railroad, seeks to extend for twenty calendar days the deadline for its 15-year inspection, from December 7, 2026, to December 27, 2026, which would allow locomotive NHRR 40 to operate Santa Trains through the end of the 2026 holiday season. In its petition, NHRR explains that the twenty-day extension is a “period critical to [NHRR's] financial stability” and that the absence of NHRR 40 would be “detrimental to [its] operations.” The requested deadline extension, which would include 18 planned service days, would enable NHRR to fund the expense of the 15-year inspection, which would be completed after December 27, 2026, and before the next planned operation in 2027.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by June 12, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-08400 Filed 5-12-25; 8:45 am]

BILLING CODE 4910-06-P